DEPARTMENT OF TRANSPORTATION

Federal Highway Administration

Environmental Impact Statement: Oconto & Marinette Counties, Wisconsin

AGENCY: Federal Highway Administration (FHWA), DOT.

ACTION: Notice of intent to prepare an environmental impact statement.

SUMMARY: The FHWA is issuing this notice to advise the public that an environmental impact statement (EIS) will be prepared for transportation improvements on the U.S. 41 corridor from Oconto to Peshtigo in Oconto and Marinette Counties, Wisconsin. The environmental impact statement will be prepared in conformance with 40 CFR part 1500 and the FHWA regulations

FOR FURTHER INFORMATION CONTACT: Mr. Johnny M Gerbitz, Field Operations Engineer, Federal Highway Administration, 567 D'Onofrio Drive, Madison, Wisconsin, 53719-2814; telephone: (608) 829-7500. You may also contact Mr. Eugene Johnson, Director, Bureau of Equity & Environmental Services, Wisconsin Department of Transportation, P.O. Box 7965, Madison, Wisconsin, 53707-7965; telephone: number (608) 266-9626.

SUPPLEMENTARY INFORMATION:

Electronic Access

An electronic copy of this document may be downloaded by using a computer, modem and suitable communications software from the Government Printing Offices' Electronic Bulletin Board Service at (202) 512-1661. Internet users may reach the Office of Federal Register's home page at: http://www.archives.gov/ and the Government Printing Offices' database at: http://www.gpoaccess.gov/nara/index.html.

Background

The FHWA, in cooperation with the Wisconsin Department of Transportation, will prepare a Draft Environmental Impact Statement (EIS) on a proposal to provide capacity, safety and operational improvements on an approximate 21-mile (34-kilometer) portion of U.S. 41 between the cities of Oconto and Peshtigo in Oconto and Marinette Counties, including community bypasses at Oconto and Peshtigo.

FHWA's decision to prepare a draft EIS is based on the initial environmental assessment that indicates the proposed action is likely to have significant impacts on the environment including wetlands. The draft EIS will evaluate the social, economic, and environmental impacts of the alternatives including no build, improvements within the existing highway corridor, and improvements on new location.

Information describing the proposed action and soliciting comments will be sent to appropriate Federal, State, and local agencies, private agencies and organizations, and citizens who have expressed or are known to have an interest in this proposal.

During environmental assessment activities, agency scoping and coordination was conducted with state and federal review agencies (including an inter-agency meeting in September 2004), and there was extensive coordination with local officials and Native American Tribes. Public information meetings were also conducted from 2002 to 2004 and two open forum public hearings were held in August 1999. Another public information meeting is planned following completion of the draft EIS. Public notice will be given of the time and place of the meeting and the draft EIS will be available for public and agency review and comment prior to the meeting. Coordination with state and federal review agencies will also continue throughout preparation of the draft EIS.

To ensure that the full range of issues related to this proposed action are addressed, and all substantive issues are identified, comments and suggestions are invited from all interested parties. Comments or questions concerning this proposed action and the draft EIS should be directed to FHWA or the Wisconsin Department of Transportation at the addresses provided under the heading FOR FURTHER INFORMATION CONTACT.

(Catalog of Federal Domestic Assistance Program Number 20.205, Highway Planning and Construction. The regulations implementing Executive Order 12372 regarding intergovernmental consultation on Federal programs and activities apply to this program.)

Authority: 23 U.S.C. 315; 49 CFR 1.48.

Issued on: October 20, 2004.
Johnny M Gerbitz,
Field Operations Engineer, Federal Highway Administration, Madison, Wisconsin.

[FR Doc. 04-23932 Filed 10-25-04; 8:45 am]

BILLING CODE 4910-22-P